DEPARTMENT OF HOMELAND SECURITY

Coast Guard

33 CFR Part 117

[CGD01-04-036]

Drawbridge Operation Regulations: Cheesequake Creek, NJ

AGENCY: Coast Guard, DHS.

ACTION: Notice of temporary deviation from regulations.

SUMMARY: The Commander, First Coast Guard District, has issued a temporary deviation from the drawbridge operation regulations for the New Jersey Transit Rail Operations railroad bridge, at mile 0.2, across Cheesequake Creek, New Jersey. Under this temporary deviation the bridge may remain closed for two weekends May 14 & 15, 2004, and May 21 & 22, 2004, from 11 p.m. on Friday through 8 a.m. on Saturday to facilitate scheduled bridge maintenance. One alternate weekend date of June 4 & 5, 2004, was also requested in case of inclement weather.

DATES: This deviation is effective from May 14, 2004 through June 5, 2004.

FOR FURTHER INFORMATION CONTACT: Joe Arca, Project Officer, First Coast Guard District, at (212) 668-7069.

SUPPLEMENTARY INFORMATION: The New Jersey Transit Rail Operations railroad bridge has a vertical clearance in the closed position of 3 feet at mean high water and 8 feet at mean low water. The existing drawbridge operation regulations are listed at 33 CFR 117.709(b).

New Jersey Transit Rail Operations requested a temporary deviation from the drawbridge operation regulations to facilitate repairs to the miter rails at the bridge. The bridge must remain in the closed position to perform these repairs.

Under this temporary deviation the New Jersey Transit Rail Operations railroad bridge may remain in the closed position on two weekends May 14 & 15, 2004, and May 21 & 22, 2004, from 11 p.m. on Friday through 8 a.m. on Saturday. One alternate weekend date of June 4 & 5, 2004, was also requested as alternate dates in case inclement weather results in cancellation of the scheduled bridge maintenance.

This deviation from the operating regulations is authorized under 33 CFR 117.35, and will be performed with all due speed in order to return the bridge to normal operation as soon as possible.

Dated: May 14 2004.
Vivien S. Crea,
Rear Admiral, U.S. Coast Guard, Commander, First Coast Guard District.

[FR Doc. 04-12131 Filed 5-27-04; 8:45 am]

BILLING CODE 4910-15-P